FEDERAL COMMUNICATIONS COMMISSION

[DA 01-1288]

Low Power Television Auction No. 81—Non-Mutually Exclusive Proposals—June 25, 2001, FCC Form 346 Application Deadline

AGENCY: Federal Communications Commission.

ACTION: Notice.

SUMMARY: This document identified those proposals filed during the limited low power television/television translator/Class A television auction filing window that are not mutually exclusive and announces a June 25, 2001, deadline for filing an FCC Form 346.

DATES: FCC Form 346 must be filed by each party identified in the Public Notice by June 25, 2001.

ADDRESSES: To submit by mail, applicants must send an original and two copies of the FCC Form 346 application to: Federal Communications Commission, Mass Media Services, P.O. Box 358185, Pittsburgh, Pennsylvania 15251-5190. To hand carry, in person or by courier, applicants must deliver an original and two copies of the FCC Form 346 application to: Mellon Bank, Three Mellon Bank Center, 525 William Penn Way, 27th Floor, Room 153-2713, Pittsburgh, Pennsylvania. Applicants should send a courtesy copy of each FCC Form 346 application to Hossein Hashemzadeh, Video Services Division, Mass Media Bureau, Federal Communications Commission, 445 12th Street, SW., Washington, DC 20554. Applicants may also file their FCC Form 346 application electronically. Instructions for use of the electronic filing system are available in the CDBS User's Guide, which can be accessed from the electronic filing web site at: http://www.fcc.gov/mmb. For assistance with electronic filing, call the Mass Media Bureau Help Desk at (202) 418-2MMB.

FOR FURTHER INFORMATION CONTACT: Shaun Maher, Video Services Division, Mass Media Bureau at (202) 418-1600.

SUPPLEMENTARY INFORMATION: This is a summary of a Public Notice released May 25, 2001. It does not include the attachment. The complete text of the Public Notice, including attachment, is available for public inspection and copying during normal business hours in the FCC Reference Center (Room CY-A257), 445 12th Street, SW., Washington, DC. It may also be purchased from the Commission's copy contractor, International Transcription Services, Inc. (ITS, Inc.) 1231 20th Street, NW., Washington, DC 20035, (202) 857-3800. It is also available on the Commission's web site at http://www.fcc.gov.

In this Public Notice, the Mass Media Bureau identifies those proposals filed during the limited low power television, television translator, and Class A television auction filing window that are not mutually exclusive. Parties must now file FCC Form 346 by June 25, 2001, in order to implement their proposals.

Federal Communications Commission.
Robert H. Ratcliffe,
Deputy Chief, Mass Media Bureau.

[FR Doc. 01-15316 Filed 6-15-01; 8:45 am]

BILLING CODE 6712-01-P